DEPARTMENT OF DEFENSE

Office of the Secretary

[Docket ID: DoD-2022-OS-0113]

Submission for OMB Review; Comment Request

AGENCY: Office of the Under Secretary of Defense for Personnel and Readiness (OUSD (P&R)), Department of Defense (DoD).

ACTION: 30-Day information collection notice.

SUMMARY: The DoD has submitted to the Office of Management and Budget (OMB) for clearance the following proposal for collection of information under the provisions of the Paperwork Reduction Act.

DATES: Consideration will be given to all comments received by February 18, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Evaluation of The U.S. Army Barracks Locks Upgrade Initiative (BLUI) submitted under “DoD-wide Data Collection and Analysis for the Department of Defense Qualitative and Quantitative Data Collection in Support of the Independent Review Commission on Sexual Assault Recommendations”; OMB Control Number 0704-0644.

Type of Request: New.

Number of Respondents: 1,660.

Responses per Respondent: 1.

Annual Responses: 1,660.

Average Burden per Response: 15 minutes.

Annual Burden Hours: 415.

Needs and Uses: The Independent Review Commission on Sexual Assault in the Military recommended that the Department develop a “state-of-the-art DoD prevention research capability” to better understand and develop prevention approaches for sexual assault and other crimes. This information collection is necessary to understand the impact of the U.S. Army's BLUI, which modernized locks in Army barracks, on sexual and non-sexual crimes and related outcomes. The study focuses on E1-E4 Soldiers living in barracks, assessing the upgrades' effectiveness and related communications on trust in leadership, fear and perceived risk of sexual and non-sexual crimes, and actual victimization/perpetration. This information will help support the development of evidence-based approaches for prevention.

Affected Public: Individuals or households.

Frequency: Once.

Respondent's Obligation: Voluntary.

DoD Clearance Officer: Mr. Reginald Lucas.

Dated: January 13, 2025.
Stephanie J. Bost,
Alternate OSD Federal Register Liaison Officer, Department of Defense.

[FR Doc. 2025-01133 Filed 1-16-25; 8:45 am]

BILLING CODE 6001-FR-P